DEPARTMENT OF HOMELAND SECURITY

Coast Guard

33 CFR Part 117

[Docket No. USCG-2018-0300]

Drawbridge Operation Regulation; Willamette River at Portland, OR

AGENCY: Coast Guard, DHS.

ACTION: Notice of deviation from drawbridge regulation; modification.

SUMMARY: The Coast Guard has modified a temporary deviation from the operating schedule that governs the Burnside Bridge across the Willamette River, mile 12.4, at Portland, OR. The deviation is necessary to accommodate bridge repairs and upgrades. This modified deviation extends the period the Burnside Bridge is authorized to operate in single leaf mode.

DATES: This deviation is effective without actual notice from October 19, 2018 to 4 p.m. on November 30, 2018. For purposes of enforcement, actual notice will be used from 4 p.m. on October 13, 2018, to October 19, 2018.

ADDRESSES: The docket for this deviation, USCG-2018-0300 is available at http://www.regulations.gov. Type the docket number in the “SEARCH” box and click “SEARCH.” Click on Open Docket Folder on the line associated with this deviation.

FOR FURTHER INFORMATION CONTACT: If you have questions on this temporary deviation, call or email Mr. Steven Fischer, Bridge Administrator, Thirteenth Coast Guard District; telephone 206-220-7282, email d13-pf-d13bridges@uscg.mil.

SUPPLEMENTARY INFORMATION: On June 7, 2018, we published a temporary deviation entitled Drawbridge Operation Regulation; Willamette River at Portland, OR, in the Federal Register (83 FR 26364). That temporary deviation allowed Multnomah County to operate the subject bridge in single leaf, and reduce the vertical clearance from 7 a.m. on July 1, 2018 to 4 p.m. on October 13, 2018. While performing upgrades and repairs, the contracting company informed Multnomah County more time will be needed to complete the job. This modification is required to extend the authorized time so bridge work crews may complete bridge upgrades and repairs. Multnomah County owns and operates the Burnside Bridge. Multnomah County requested an extension to the current published temporary deviation, and is authorized to operate the Burnside Bridge in single leaf, and maintain the east leaf closed to marine vessels from 4 p.m. on October 13, 2018 to 4 p.m. on November 30, 2018.

The Burnside Bridge provides a vertical clearance of 41 feet in the closed-to-navigation position referenced to Columbia River Datum 0.0, and the east leaf will be reduced to 31 feet with scaffolding installed. The horizontal clearance for the west leaf opening will be 100 feet. The normal operating schedule is in 33 CFR 117.897. Waterway usage on this part of the Willamette River includes vessels ranging from commercial tug and barge to small pleasure craft. The Coast Guard contacted all known users of the Willamette River for comment, and we received no objections for this deviation.

Vessels able to pass through the bridge in the closed-to-navigation position may do so at any time. The bridge will be able to open the west side of the span only for emergencies, and there is no immediate alternate route for vessels to pass. The Coast Guard will inform the users of the waterway, through our Local and Broadcast Notices to Mariners, of the change in operating schedule for the bridges so that vessels can arrange their transits to minimize any impact caused by the temporary deviation.

In accordance with 33 CFR 117.35(e), the drawbridge must return to its regular operating schedules immediately at the end of the effective period of this temporary deviation. This deviation from the operating regulations is authorized under 33 CFR 117.35.

Dated: October 15, 2018.
Steven M. Fischer,
Bridge Administrator, Thirteenth Coast Guard District.

[FR Doc. 2018-22801 Filed 10-18-18; 8:45 am]

BILLING CODE 9110-04-P